DEPARTMENT OF ENERGY

Federal Energy Regulatory Commission

[Docket No. PR00-9-000]

PG&E Texas Pipeline, L.P.; Notice of Staff Panel

October 6, 2000.

Take notice that a Staff Panel shall be convened in accordance with the Commission order ¹ in the above-captioned docket to allow opportunity for written comments and for the oral presentation of views, data, and arguments regarding the fair and equitable rates to be established for transportation service under section 311 of the Natural Policy Act of 1978 on PG&E Texas Pipeline, L.P.'s system. The Staff Panel will not be a judicial or evidentiary-type hearing and there will be no cross-examination of persons presenting statements. Members participating on the Staff Panel before whom the presentations are made may ask questions. If time permits, Staff Panel members may also ask such relevant questions as are submitted to them by participants. Other procedural rules relating to the panel will be announced at the time the proceeding commences.

¹ See PG&E Texas Pipeline, L.P., 93 FERC ¶ 61,012 (2000).

The Staff Panel will be held on Friday, October 13, 2000, at 10 a.m. in a room to be designated at the offices of the Federal Energy Regulatory Commission, 888 First Street, NE., Washington, DC 20426.

Linwood A. Watson, Jr.,
Acting Secretary.

[FR Doc. 00-26286 Filed 10-12-00; 8:45 am]

BILLING CODE 6717-01-M